DEPARTMENT OF THE INTERIOR

Bureau of Land Management

[UTU 80808]

Notice of Proposed Withdrawal; Utah

AGENCY: Bureau of Land Management, Interior.

ACTION: Notice of proposed withdrawal.

SUMMARY: The U.S. Department of Energy has filed an application to withdraw approximately 11,985 acres of public land managed by the Bureau of Land Management for two alternative disposal cell sites, for the Moab Mill Site uranium mill tailings, and four alternative borrow material areas in Grand County, Utah. The Department of Energy is preparing an environmental impact statement to determine whether the uranium mill tailings will be left in place or moved to one of the two disposal sites identified on public lands, and which, if any, of the borrow areas will be needed. Should relocation be the chosen alternative, the actual amount of land to be withdrawn for the repository would be approximately two to three sections (1,280 to 1,920 acres.)

This notice segregates the lands for up to two years from location and entry under the United States mining laws, including the mineral leasing laws, subject to valid existing rights. In accordance with the regulations contained in 43 CFR 4110.4-2(b), this notice serves as the two-years' prior notification to grazing permittees should the public lands below be selected for the Moab Mill Site Remediation Project and become unavailable for livestock grazing.

DATES: Comments must be received on or before February 18, 2004.

ADDRESSES: Comments should be sent to the Moab Field Manager, 82 East Dogwood Avenue, Moab, Utah 84532.

FOR FURTHER INFORMATION CONTACT: Mary von Koch, Realty Specialist, Moab Field Office, 82 East Dogwood Avenue, Moab, Utah 84532, at (435) 259-2128.

SUPPLEMENTARY INFORMATION: On September 5, 2003, an application was received from the Department of Energy to withdraw the following described public lands from location and entry under the United States mining laws, including the mineral leasing laws, subject to valid existing rights:

Salt Lake Meridian

Crescent Junction Disposal Site and Borrow Area

T. 21 S., R. 19 E.,

Sec. 22, those lands south of the Bookcliffs;

Sec. 23, those lands south of the Bookcliffs;

Sec. 24, lots 1 to 3, inclusive, lot 4, those lands north of the railroad right-of-way (R/W), those lands in the W½ south of the Bookcliffs, and those lands in the W½E½ north of the railroad R/W;

Sec. 25, those lands in the N½NW¼ north of the railroad R/W;

Sec. 26, those lands in the N½ and NW¼SW¼ north of the railroad R/W.

Sec. 27, N1/2, N1/2 SW1/4, those lands in the S1/2 SW1/4 and SE ¼ north of the railroad R/W.

The area described contains approximately 2,241 acres in Grand County.

Klondike Flats Disposal Site and Borrow Area

T. 23 S., R. 19 E.,

Sec. 23, E½;

Sec. 24, W½, and those lands in the E½ lying west of the U.S. Highway 191 R/W;

Secs. 25, 26, and 35.

The area described contains approximately 2,819 acres in Grand County.

Floy Wash Borrow Area

T. 22 S., R. 18 E.,

Sec. 4, lot 5, W½SE¼, excluding the Interstate Highway 70 and railroad R/W;

Sec. 9, lots 3, 4, S½NW¼, and SW¼.

The area described contains approximately 374 acres in Grand County.

Courthouse Syncline Borrow Area

T. 23 S., R. 19 E.,

Sec. 4, lots 1-4, inclusive, S½N½, and S½;

Sec. 5, lots 1-4, inclusive, S½N½, and S½;

Sec. 7, lots 1-12, inclusive, and E½;

Sec. 8, All.

The area described contains approximately 2,730 acres in Grand County.

Tenmile Borrow Area

T. 23 S., R. 18 E.,

Sec. 26, S½;

Sec. 33, SE¼;

Sec. 34, NE¼, and S½;

Sec. 35, N½, and SW¼.

T. 24 S., R. 18 E.,

Sec. 3, lots 1-4, inclusive, and S½N½;

Sec. 4, lots 1-4, inclusive, and S½N½.

The area described contains approximately 2,062 acres in Grand County.

Blue Hills Road Borrow Area

T. 24 S., R. 19 E.,

Sec. 3, S½;

Sec. 4, SE¼;

Sec. 10, N½;

Sec. 11, All;

Sec. 12, S½.

The area described contains approximately 1,760 acres in Grand County.

All persons who wish to submit comments, suggestions, or objections in connection with the proposed withdrawal may present their views in writing, by the date specified above, to the Moab Field Manager.

The application will be processed in accordance with the regulations set forth in 43 CFR 2300.

For a period until November 20, 2005, the lands will be segregated as specified above unless the application is canceled or the withdrawal is approved prior to that date.

Public meetings will be held in connection with the proposed withdrawal during the preparation of the environmental impact statement that will analyze options for disposal of the uranium tailings. A notice of the time and place will be published by the U.S. Department of Energy in the Federal Register at least 30 days before the scheduled date of the meetings.

Dated: October 2, 2003.
Margaret Wyatt,
Moab Field Office Manager.

[FR Doc. 03-29001 Filed 11-19-03; 8:45 am]

BILLING CODE 6450-01-P